DEPARTMENT OF ENERGY

Federal Energy Regulatory Commission

[Docket No. RP99-434-002]

Gulf States Transmission Corporation; Notice of Compliance Filing

March 15, 2000.

Take notice that on March 10, 2000, Gulf States Transmission Corporation (Gulf States) tendered for filing certain revised tariff sheets for inclusion in Gulf States' FERC Gas Tariff, Original Volume No. 1.

Gulf Sates that it is filing these tariff sheets to comply with the Commission's February 22, 2000 Letter Order in the above-referenced docket (February 22 Letter Order). In accordance with the February 22 Letter Order, Gulf States requests that these tariff sheets be deemed effective August 1, 1999.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-7023 Filed 3-21-00; 8:45 am]

BILLING CODE 6717-01-M